DEPARTMENT OF COMMERCE

National Oceanic and Atmospheric Administration

RIN 0648-XE602

Mid-Atlantic Fishery Management Council (MAFMC); Public Hearings

AGENCY: National Marine Fisheries Service (NMFS), National Oceanic and Atmospheric Administration (NOAA), Commerce.

ACTION: Notice; public hearings.

SUMMARY: The Mid-Atlantic Fishery Management Council (Council) will hold seven public hearings in May and June 2016 to solicit public input on the Unmanaged Forage Omnibus Amendment. The Council is also soliciting written comments on the amendment through 11:59 p.m. on Friday, June 17, 2016. The goal of this amendment is to prohibit the development of new and expansion of existing directed commercial fisheries on unmanaged forage species in Mid-Atlantic Federal waters until the Council has had an adequate opportunity to both assess the scientific information relating to any new or expanded directed fisheries and consider potential impacts to existing fisheries, fishing communities, and the marine ecosystem.

DATES: The public hearings will be held between May 17, 2016 and June 8, 2016. The dates and times of each hearing are listed in the SUPPLEMENTARY INFORMATION section.

ADDRESSES: Addresses for written comments: Written comments may be sent through mail, email, or fax through 11:59 p.m. on Friday, June 17, 2016. Comments may be mailed to: Dr. Chris Moore, Executive Director, Mid-Atlantic Fishery Management Council, 800 North State Street, Suite 201, Dover, DE 19901. Comments may be faxed to: Dr. Chris Moore, Executive Director, Mid-Atlantic Fishery Management Council at fax number (302) 674-5399. Comments may be emailed to Julia Beaty, Fishery Management Specialist, at jbeaty@mafmc.org. If sending comments through the mail, please write “unmanaged forage public hearing comments” on the outside of the envelope. If sending comments through email or fax, please write “unmanaged forage public hearing comments” in the subject line.

Council address: Mid-Atlantic Fishery Management Council, 800 N. State Street, Suite 201, Dover, DE 19901; telephone: 302-674-2331; Web site: www.mafmc.org.

FOR FURTHER INFORMATION CONTACT: Christopher M. Moore, Ph.D., Executive Director, Mid-Atlantic Fishery Management Council, telephone: 302-526-5255. More information, including background materials, will be posted at www.mafmc.org/actions/unmanaged-forage.

SUPPLEMENTARY INFORMATION: The Council will hold seven public hearings. The dates, times, and locations are listed below:

1. Tuesday, May 17, 2016, 6 p.m.-7:30 p.m., North Carolina Department of Marine Fisheries Washington Regional Office Hearing Room, 943 Washington Street, Washington, NC 27889; telephone: (252) 946-6481.

2. Wednesday, May 18, 2016, 6:30-8 p.m., Hilton Virginia Beach Oceanfront, 3001 Atlantic Avenue, Virginia Beach, VA 23451; telephone: (757) 213-3000.

3. Thursday, May 19, 2016, 6:30-8 p.m., Stockton Seaview Hotel and Golf Club, 401 South New York Road, Galloway, NJ 08205; telephone: (855) 894-8698.

4. Monday, May 23, 2016, 6 p.m.-7:30 p.m., University of Rhode Island Bay Campus Corless Auditorium, 215 South Ferry Road, Narragansett, RI 02882; telephone: (401) 874-6222.

5. Tuesday, May 24, 2016, 6:30 p.m.-8 p.m., New York Department of Environmental Conservation Bureau of Marine Resources Hearing Room, 205 North Bell Mead Road, Suite 1, East Setauket, NY 11733; telephone: (631) 444-0430.

6. Monday, June 6, 2016, 6:30-8 p.m., Hilton Suites Oceanfront, 3200 North Baltimore Avenue, Ocean City, Maryland 21842; telephone: (410) 289-6444.

7. Wednesday, June 8, 2016, 6:30 p.m.-8 p.m., Webinar. Information on how to connect to the webinar will be available on the events page of the Council Web site: www.mafmc.org/council-events/.

The goal of the Unmanaged Forage Omnibus Amendment is to prohibit the development of new and expansion of existing directed commercial fisheries on unmanaged forage species in Mid-Atlantic Federal waters until the Council has had an adequate opportunity to both assess the scientific information relating to any new or expanded directed fisheries and consider potential impacts to existing fisheries, fishing communities, and the marine ecosystem. This action is needed to protect the structure and function of marine ecosystems in the Mid-Atlantic and to advance an ecosystem approach to fisheries management in the Mid-Atlantic. In this context, “unmanaged” refers to species not currently managed by the Mid-Atlantic, New England, or South Atlantic Fishery Management Councils, or the Atlantic States Marine Fisheries Commission. The Council has proposed a range of management alternatives to meet the goal of the amendment. The Council is seeking public comment on these alternatives. More information on the amendment and the management alternatives can be found in the Public Hearing Document, which will be posted to: http://www.mafmc.org/actions/unmanaged-forage.

Special Accommodations

These hearings are physically accessible to people with disabilities. Requests for sign language interpretation or other auxiliary aid should be directed to M. Jan Saunders, (302) 526-5251, at least 5 days prior to the hearing date.

Dated: April 27, 2016.
Jeffrey N. Lonergan,
Acting Deputy Director, Office of Sustainable Fisheries, National Marine Fisheries Service.

[FR Doc. 2016-10237 Filed 4-29-16; 8:45 am]

BILLING CODE 3510-22-P